DEPARTMENT OF DEFENSE

Department of the Navy

Notice of Public Meetings for the Draft Environmental Impact Statement/Legislative Environmental Impact Statement for Renewal of Naval Air Weapons Station China Lake Public Land Withdrawal, California

AGENCY: Department of the Navy, DoD.

ACTION: Notice.

SUMMARY: Pursuant to Section 102(2)(c) of the National Environmental Policy Act of 1969 and regulations implemented by the Council on Environmental Quality (40 Code of Federal Regulations (CFR) parts 1500-1508), and in accordance with the requirements of the California Military Lands Withdrawal and Overflights Act of 1994 (Pub. L. 103-433, part of the California Desert Protection Act), the Department of the Navy (DoN), in cooperation with the Bureau of Land Management (BLM), has prepared and filed with the U.S. Environmental Protection Agency a Draft Environmental Impact Statement (EIS)/Legislative Environmental Impact Statement (LEIS). Separately, and in accordance with the Engle Act of 1958 (Pub. L. 85-337) and 43 CFR part 2310, the DoN submitted a land withdrawal renewal application to BLM.

The Draft EIS/LEIS evaluates the potential environmental effects associated with the proposed Congressional reauthorization of the current land withdrawal of approximately 1.03 million acres of public land in Kern, Inyo, and San Bernardino counties, California. The proposed 25-year withdrawal would comprise the current North and South ranges at Naval Air Weapons Station China Lake (NAWSCL), California. The Draft EIS/LEIS also addresses an increase of up to 25 percent in the tempo of military activity within current land use areas approved for designated uses, and the implementation of an update of the installation's Comprehensive Land Use Management Plan (CLUMP). The proposed action would enable the DoN to meet its mission to support state-of-the-art air warfare weapons systems testing and evaluation, and the readiness of the military services, using existing facilities and infrastructure, and on safe, operationally realistic, and instrumented land ranges.

With the filing of the Draft EIS/LEIS and submission of the application to renew the public land withdrawal, the DoN and BLM are initiating a 90-day public comment period and have scheduled three public open house meetings to receive oral and written comments on the Draft EIS/LEIS and the proposed renewal of the public land withdrawal. This notice announces the dates and locations of the public meetings and provides supplementary information.

Dates and Addresses: The 90-day public comment period for the Draft EIS/LEIS began on August 10, 2012 and will end on November 8, 2012. The DoN and BLM will hold three public meetings, using an open house format, to inform the public about the Draft EIS/LEIS and the public land withdrawal renewal process. Representatives from the DoN and BLM will be available to discuss and answer questions on the proposed action and alternatives, the land withdrawal renewal, the environmental planning process, and the findings presented in the Draft EIS/LEIS. Public open house meetings will be held at each location between 6:00 p.m. and 8:00 p.m. on the following dates:

1. Tuesday, October 2, 2012, SpringHill Suites, 113 East Sydnor Avenue, Ridgecrest, California 93555.

2. Wednesday, October 3, 2012, Trona Community Senior Center, 13187 Market Street, Trona, California 93562.

3. Thursday, October 4, 2012, Statham Hall, 138 North Jackson Street, Lone Pine, California 93545.

Federal, state and local agencies and officials, and interested groups and individuals are encouraged to provide oral or written comments in person at any of the public meetings. A stenographer will be present to transcribe oral comments. Comments also may be submitted in writing anytime during the public comment period to: Naval Facilities Engineering Command Southwest, ATTN: NAWSCL Land Withdrawal Renewal EIS/LEIS Project Manager (Mr. Gene Beale), 1220 Pacific Highway, San Diego, California 92132-5190. In addition, comments may be submitted any time during the public comment period via the project Web site: http://www.chinalakeleis.com.

All statements, whether oral, oral transcription, written, or submitted via the web site during the public review period will become part of the public record on the Draft EIS/LEIS and be considered in preparing the Final EIS/LEIS if postmarked or received by November 8, 2012.

FOR FURTHER INFORMATION CONTACT: Naval Facilities Engineering Command, Southwest, ATTN: NAWSCL Land Withdrawal Renewal EIS/LEIS Project Manager (Mr. Gene Beale), 1220 Pacific Highway, San Diego, California 92132-5190.

SUPPLEMENTARY INFORMATION: The California Military Lands Withdrawal and Overflights Act of 1994, withdrew and reserved approximately 1.03 million acres of public lands comprising the NAWSCL for defense-related purposes for a period of 20 years (until October 14, 2014). The Secretary of the DoN is seeking to extend the withdrawal of these public lands and is required to publish a draft EIS addressing the effects of continued withdrawal by October 31, 2012. On June 10, 2011, the DoN published a Notice of Intent to prepare this EIS/LEIS in the Federal Register (76 FR 34066) and on June 13, 2011 submitted a land withdrawal application to BLM. This notice announces the availability of the Draft EIS/LEIS for public review and the dates and locations of public meetings to receive comments on the Draft EIS/LEIS.

The purpose of the proposed action is to support the renewal of the 1994 withdrawal at NAWSCL by an Act of Congress in order to continue to support DoN and Department of Defense (DoD) DoD use of 1.03 million acres of fully instrumented land ranges for Research, Development, Acquisition, Test, and Evaluation (RDAT&E) and military readiness training activities. NAWSCL is the DoN's full-spectrum RDAT&E center for weapons systems associated with air warfare, aircraft weapons integration, missiles and missile subsystems, and assigned airborne electronic warfare systems. RDAT&E activities are needed to develop new weapons systems and ensure that these systems perform to their designed specifications. The NAWSCL land ranges provide the safe, operationally realistic, and instrumented environment needed to fulfill DoN and DoD RDAT&E requirements. Tenant commands supported are the Naval Air Warfare Center Weapons Division and other DoD RDAT&E and training activities.

The proposed action will also support the revision, update, and implementation of NAWSCL's CLUMP, which meets the land, cultural, natural, and environmental resources management requirements of the California Desert Protection Act and the Sikes Act (16 U.S. Code 670a-670o, as amended in 1997). The updated CLUMP will ensure no loss in the capability of the installation to support its military mission and facilitate environmentally sound resource management decisions when responding to planned increases in emerging military readiness needs. It would also support the warfighter by ensuring the land use management supports current and evolving technology, allowing for solutions to theater-relevant problems and to maintain readiness.

The Draft EIS/LEIS evaluates the potential environmental impacts of two action alternatives and the No Action Alternative. Alternative 1 (Withdrawal and Increased Tempo) is the DoN's preferred alternative and provides NAWSCL the greatest flexibility to accommodate current and evolving DoN and DoD military readiness activities. Alternative 1 includes: (1) Congressional renewal of the land withdrawal for a period of 25 years; (2) revise and implement the CLUMP; and (3) increase mission activities by up to 25 percent, expand unmanned aerial and surface systems, and expand existing and introduce evolving directed energy weapons development.

Alternative 2 (Withdrawal and Baseline Tempo) provides for the Congressional renewal of the land withdrawal (25 year renewal) and continuation of military activities at current levels. Nonmilitary activities would continue according to current patterns of use. The existing CLUMP would be revised, as appropriate, and implemented to manage land use and environmental resources at NAWSCL.

Under the No Action Alternative (Alternative 3), the renewal of the withdrawal of public lands at NAWSCL would not occur; administrative control of the withdrawn land would remain with the DoN until environmental remediation and health and safety concerns were addressed to allow the return of the land to BLM. The expiration of the public land withdrawal would terminate the DoN's authority to use approximately 92 percent of the NAWSCL-managed lands. Although the DoN would continue to be responsible for the remaining fee-owned/leased land and managed airspace, these land resources would not be sufficient to accommodate the hazard patterns, targets, maneuvering areas, special equipment, explosive areas, and other features associated with RDAT&E and training events. As a result, there would be a probable dramatic reduction in, or potentially the eventual cessation of, RDAT&E activities at NAWSCL.

The Draft EIS/LEIS provides an analysis of the potential environmental effects of the proposed action on the following resources: Land use, noise, air quality, biological resources, cultural resources, geology and soils, water resources, socioeconomics (including environmental justice), utilities and public services, public health and safety, hazardous materials and waste, and traffic and circulation.

Specific findings within the Draft EIS/LEIS indicate that ongoing aircraft flight events at Armitage Field would exceed noise compatibility thresholds at certain off-installation noise sensitive receptors. However, the continued implementation of the land use management recommendations identified in the 2011 Air Installation Compatibility Use Zones Update would minimize noise impacts to surrounding areas.

Potential brush fires associated with the proposed testing and training activities may result in significant impacts to biological resources. Implementation of mitigation and conservation measures as described in the NAWSCL Integrated Natural Resources Management Plan would reduce these potential impacts. On March 9, 2012, the DoN initiated consultation with the U.S. Fish and Wildlife Service in accordance with Section 7 of the Endangered Species Act for the potential impacts to Federally-listed species present at NAWSCL (specifically, desert tortoise, Mojave tui chub, southwestern willow flycatcher, least Bell's vireo, and Inyo California towhee).

Impacts to cultural resources from the proposed action would not be significant and would be further reduced by implementation of the standard operating procedures for the treatment of cultural resources described in the Integrated Cultural Resources Management Plan. In accordance with Section 106 of the National Historic Preservation Act, the DoN initiated consultation with the State Historic Preservation Officer for on March 9, 2012. Native American access to the Coso Hot Springs and Prayer Site would continue to be conducted in accordance with the existing Memorandum of Agreement between NAWSCL and Native American tribes.

The Draft EIS/LEIS was distributed to Federal, state, and local agencies, elected officials, and other interested individuals and organizations. Copies of the Draft EIS/LEIS are available for public review at the following libraries:

1. Ridgecrest Public Library, 131 East Las Flores Avenue, Ridgecrest, California 93555.

2. Trona Branch Library, 82805 Mount View, Trona, California 93562.

3. Lone Pine Branch Library, 127 Bush Street, Lone Pine, California 93545.

4. Barstow Branch Library, 304 East Buena Vista Street, Barstow, California 92311.

5. Mojave Public Library, 16916-1/2 State Highway 14, Space D2, Mojave, California 93501.

6. Lancaster Public Library, 601 West Lancaster Boulevard, Lancaster, California 93534.

The Draft EIS/LEIS is also available for electronic viewing or download at the project Web site at http://www.chinalakeleis.com. A paper copy of the Executive Summary or a single compact disc of the Draft EIS/LEIS will be made available upon written request.

Dated: August 14, 2012.
C.K. Chiappetta,
Lieutenant Commander, Office of the Judge Advocate General, U.S. Navy, Federal Register Liaison Officer.

[FR Doc. 2012-20279 Filed 8-16-12; 8:45 am]

BILLING CODE 3810-FF-P